DEPARTMENT OF AGRICULTURE

Agricultural Marketing Service

[Doc. No. AMS-SC-24-0002]

Virtual Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a two-day virtual meeting of the Fruit and Vegetable Industry Advisory Committee (FVIAC). This meeting is being convened to examine the full spectrum of fruit and vegetable industry issues and provide recommendations and ideas on how the USDA can tailor programs and services to better meet the needs of the U.S. produce industry. Agenda items may include, but are not limited to, administrative matters and consideration of recommendations pertaining to labor and production, food safety, infrastructure and sustainability, consumption and nutrition, and data reporting and analysis.

DATES: A virtual two-day meeting will be held March 04-05, 2024, from 11:00 a.m. to approximately 4:00 p.m. Eastern Time (ET) each day.

Written Comments: Written public comments will be accepted until 11:59 p.m. ET on February 21, 2024, via https://www.regulations.gov.:Document#AMS-SC-24-0002. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: The Committee will hear oral public comments via the webinar on March 04, 2024. Persons or organizations wishing to make oral comments must pre-register by 11:59 p.m. ET, February 21, 2024, and can register for only one speaking slot. Instructions for registering and participating in the webinars can be found at https://www.ams.usda.gov/event/virtual-meeting-fruit-and-vegetable-industry-advisory-committee-0.

ADDRESSES: The webinar for the virtual meeting and public comment period can be accessed via the internet and/or phone. Members of the public must register in advance for this webinar. Instructions for registering and participating in the webinar can be found at https://www.ams.usda.gov/event/virtual-meeting-fruit-and-vegetable-industry-advisory-committee-0.

FOR FURTHER INFORMATION CONTACT: Darrell Hughes, Designated Federal Officer, Fruit and Vegetable Industry Advisory Committee, USDA-AMS-Specialty Crops Program, 1400 Independence Avenue SW, Suite 1575, STOP 0235, Washington, DC 20250-0235; Telephone: (202) 378-2576; Email: SCPFVIAC@usda.gov.

SUPPLEMENTARY INFORMATION: Pursuant to the Federal Advisory Committee Act (FACA) (5 U.S.C. App. 2), the Secretary of Agriculture (Secretary) established FVIAC in 2001 to examine the full spectrum of issues faced by the fruit and vegetable industry and to provide suggestions and ideas to the Secretary on how USDA can tailor its programs to meet the fruit and vegetable industry's needs.

The AMS Chief of Staff for the Specialty Crops Program serves as the Committee's Designated Federal Officer, leading the effort to administer the Committee's activities. Representatives from USDA mission areas and other government agencies affecting the fruit and vegetable industry are periodically called upon to participate in the Committee's meetings as determined by the Committee. AMS is giving notice of the virtual Committee meeting to the public so that they may participate and present their views via written comments. The meeting is open to the public.

Public Comments: Comments should address specific topics noted on the meeting agenda.

Written Comments: Written public comments will be accepted until 11:59 p.m. ET on February 21, 2024, via http://www.regulations.gov:Document#AMS-SC-24-0002. Comments submitted after this date will be provided to AMS, but the Committee may not have adequate time to consider those comments prior to the meeting. AMS, Specialty Crops Program strongly prefers that written comments be submitted electronically. However, written comments may also be submitted (i.e., postmarked) via mail to the person listed in the FOR FURTHER INFORMATION CONTACT section by or before the deadline.

Oral Comments: The Committee will hear oral public comments via the webinar on March 04, 2024. Persons or organizations wishing to make oral comments must pre-register by 11:59 p.m. ET, February 21, 2024, and can register for only one speaking slot. Instructions for registering and participating in the webinars can be found at https://www.ams.usda.gov/event/virtual-meeting-fruit-and-vegetable-industry-advisory-committee-0.

Meeting Accommodations: The USDA provides reasonable accommodation to individuals with disabilities. The FVIAC virtual meeting will have sign language interpretation. If you are a person requiring reasonable accommodation, please make requests in advance for sign language interpretation, assistive listening devices, or other reasonable accommodation to the person listed under the FOR FURTHER INFORMATION CONTACT section. Determinations for reasonable accommodation will be made on a case-by-case basis.

Dated: January 18, 2024.
Cikena Reid,
Committee Management Officer.

[FR Doc. 2024-01312 Filed 1-23-24; 8:45 am]

BILLING CODE 3410-02-P